DEPARTMENT OF ENERGY

Federal Energy Regulatory Commission

Combined Notice of Filings #1

Take notice that the Commission received the following electric rate filings:

Docket Numbers: ER17-1568-002.

Applicants: Southwest Power Pool, Inc.

Description: Compliance filing: Request for Deferral of Effective Date—Order No. 831 Compliance Filing to be effective N/A.

Filed Date: 2/28/19.

Accession Number: 20190228-5196.

Comments Due: 5 p.m. ET 3/21/19.

Docket Numbers: ER18-2342-004.

Applicants: GridLiance Heartland LLC.

Description: Compliance filing: GridLiance Heartland LLC—ER18-2342 Compliance Filing—Revised to be effective 2/27/2019.

Filed Date: 2/27/19.

Accession Number: 20190227-5129.

Comments Due: 5 p.m. ET 3/20/19.

Docket Numbers: ER19-231-002.

Applicants: Dynegy Oakland, LLC.

Description: Tariff Amendment: Amended Filing ? Request for Commission Action to be effective 1/1/2019.

Filed Date: 2/27/19.

Accession Number: 20190227-5128.

Comments Due: 5 p.m. ET 3/20/19.

Docket Numbers: ER19-404-001.

Applicants: Public Service Company of Colorado.

Description: Compliance filing: 2019-02-27 Transmission Template Update—Compliance ER19-404 to be effective 2/1/2019.

Filed Date: 2/27/19.

Accession Number: 20190227-5144.

Comments Due: 5 p.m. ET 3/20/19.

Docket Numbers: ER19-460-002.

Applicants: Southwest Power Pool, Inc.

Description: Compliance filing: Request for Deferral of Effective Date—Order No. 841 Compliance Filing to be effective N/A.

Filed Date: 2/28/19.

Accession Number: 20190228-5100.

Comments Due: 5 p.m. ET 3/21/19.

Docket Numbers: ER19-1120-001.

Applicants: PJM Interconnection, L.L.C.

Description: Tariff Amendment: Eratta re: Second Revised ISA No. 3604, Queue No. W4-009/X4-005/AD1-113 to be effective 1/26/2019.

Filed Date: 2/28/19.

Accession Number: 20190228-5247.

Comments Due: 5 p.m. ET 3/21/19.

Docket Numbers: ER19-1136-000.

Applicants: City of Pasadena, California.

Description: § 205(d) Rate Filing: Transmission Revenue Requirement Revision to be effective 3/1/2019.

Filed Date: 2/27/19.

Accession Number: 20190227-5143.

Comments Due: 5 p.m. ET 3/20/19.

Docket Numbers: ER19-1137-000.

Applicants: Southwest Power Pool, Inc.

Description: § 205(d) Rate Filing: East Texas Cooperatives Stated Rate Revisions to be effective 5/1/2019.

Filed Date: 2/27/19.

Accession Number: 20190227-5145.

Comments Due: 5 p.m. ET 3/20/19.

Docket Numbers: ER19-1138-000.

Applicants: PJM Interconnection, L.L.C.

Description: § 205(d) Rate Filing: Original ISA, SA No. 5291, Queue No. AC1-165 to be effective 1/28/2019.

Filed Date: 2/27/19.

Accession Number: 20190227-5150.

Comments Due: 5 p.m. ET 3/20/19.

Docket Numbers: ER19-1141-000.

Applicants: PJM Interconnection, L.L.C.

Description: § 205(d) Rate Filing: Original ISA, SA No. 5287, Queue No. AB2-100 to be effective 1/29/2019.

Filed Date: 2/28/19.

Accession Number: 20190228-5052.

Comments Due: 5 p.m. ET 3/21/19.

Docket Numbers: ER19-1142-000.

Applicants: Midcontinent Independent System Operator, Inc.

Description: § 205(d) Rate Filing: 2019-02-28_Termination of SA 3169 Crittenden Wind—EAI GIA (J662) to be effective 4/2/2019.

Filed Date: 2/28/19.

Accession Number: 20190228-5103.

Comments Due: 5 p.m. ET 3/21/19.

Docket Numbers: ER19-1143-000.

Applicants: Midcontinent Independent System Operator, Inc.

Description: § 205(d) Rate Filing: 2019-02-28_SA 3206 Dakota Range I & II-OTP MPFCA (J436 J437 Hankinson Ellendale) to be effective 1/7/2019.

Filed Date: 2/28/19.

Accession Number: 20190228-5107.

Comments Due: 5 p.m. ET 3/21/19.

Docket Numbers: ER19-1144-000.

Applicants: Midcontinent Independent System Operator, Inc.

Description: § 205(d) Rate Filing: 2019-02-28_SA 3241 Deuel Harvest Wind Energy-NSP-OTP FCA (J526) to be effective 2/20/2019.

Filed Date: 2/28/19.

Accession Number: 20190228-5112.

Comments Due: 5 p.m. ET 3/21/19.

Docket Numbers: ER19-1145-000.

Applicants: PPL Electric Utilities Corporation, PJM Interconnection, L.L.C.

Description: § 205(d) Rate Filing: PPL submits revisions to the OATT, Att. H-8G re: Tax Cuts and Jobs Act of 2017 to be effective 6/1/2019.

Filed Date: 2/28/19.

Accession Number: 20190228-5127.

Comments Due: 5 p.m. ET 3/21/19.

Docket Numbers: ER19-1146-000.

Applicants: New England Power Pool Participants Committee.

Description: § 205(d) Rate Filing: March 2019 Membership Filing to be effective 2/1/2019.

Filed Date: 2/28/19.

Accession Number: 20190228-5129.

Comments Due: 5 p.m. ET 3/21/19.

Docket Numbers: ER19-1147-000.

Applicants: Pacific Gas and Electric Company.

Description: § 205(d) Rate Filing: PG&E Coyote Valley BESS SGIA (SA 415) to be effective 4/30/2019.

Filed Date: 2/28/19.

Accession Number: 20190228-5173.

Comments Due: 5 p.m. ET 3/21/19.

Docket Numbers: ER19-1148-000.

Applicants: PJM Interconnection, L.L.C.

Description: § 205(d) Rate Filing: Revisions to OA, Schedule 12 RE: Membership Terminations for Default to be effective 4/30/2019.

Filed Date: 2/28/19.

Accession Number: 20190228-5178.

Comments Due: 5 p.m. ET 3/21/19.

Docket Numbers: ER19-1149-000.

Applicants: Southern California Edison Company.

Description: § 205(d) Rate Filing: Phase 2 Retail Rate Change to be effective 3/1/2019.

Filed Date: 2/28/19.

Accession Number: 20190228-5185.

Comments Due: 5 p.m. ET 3/21/19.

Docket Numbers: ER19-1150-000.

Applicants: PJM Interconnection, L.L.C.

Description: § 205(d) Rate Filing: Original ISA, SA No. 5292; Queue No. AB2-174 to be effective 1/29/2019.

Filed Date: 2/28/19.

Accession Number: 20190228-5200.

Comments Due: 5 p.m. ET 3/21/19.

Docket Numbers: ER19-1151-000.

Applicants: PJM Interconnection, L.L.C.

Description: § 205(d) Rate Filing: Revisions to the OATT, Att. L to add Transource WV as a new Transmission Owner to be effective 4/30/2019.

Filed Date: 2/28/19.

Accession Number: 20190228-5202.

Comments Due: 5 p.m. ET 3/21/19.

Docket Numbers: ER19-1152-000.

Applicants: PJM Interconnection, L.L.C.

Description: § 205(d) Rate Filing: Revisions to the CTOA Att. A to add Transource WV as a new Transmission Owner to be effective 4/30/2019.

Filed Date: 2/28/19.

Accession Number: 20190228-5204.

Comments Due: 5 p.m. ET 3/21/19.

Docket Numbers: ER19-1153-000.

Applicants: California Independent System Operator Corporation.

Description: § 205(d) Rate Filing: 2019-02-26 Inverter-Based Interconnection Requirements Amendment to be effective 4/30/2019.

Filed Date: 2/28/19.

Accession Number: 20190228-5210.

Comments Due: 5 p.m. ET 3/21/19.

Docket Numbers: ER19-1154-000.

Applicants: American Transmission Systems, Incorporated, PJM Interconnection, L.L.C.

Description: § 205(d) Rate Filing: ATSI submits 3 ECSAs, Service Agreement Nos. 5138, 5197, and 5206 to be effective 4/29/2019.

Filed Date: 2/28/19.

Accession Number: 20190228-5226.

Comments Due: 5 p.m. ET 3/21/19.

Take notice that the Commission received the following electric securities filings:

Docket Numbers: ES19-15-000.

Applicants: El Paso Electric Company.

Description: Supplement to January 30, 2019 Application under Section 204 of the Federal Power Act for Authorization to Issue Securities of El Paso Electric Company.

Filed Date: 2/26/19.

Accession Number: 20190226-5198.

Comments Due: 5 p.m. ET 3/19/19.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 28, 2019.
Nathaniel J. Davis, Sr.,
Deputy Secretary.

[FR Doc. 2019-03993 Filed 3-5-19; 8:45 am]

BILLING CODE 6717-01-P